DEPARTMENT OF ENERGY

Federal Energy Regulatory Commission

[Project No. 12118-001]

Northern California Hydro Developers; Notice of Surrender of Preliminary Permit

June 14, 2004.

Take notice that Northern California Hydro Developers, permittee for the proposed Robley Point Project, has requested that its preliminary permit be terminated. The permit was issued on February 14, 2002, and would have expired on January 31, 2005.¹ The project would have been located on the West Branch Feather River in Butte County, California.

¹ 98 FERC ¶ 62,106.

The permittee filed the request on May 10, 2004, and the preliminary permit for Project No. 12118 shall remain in effect through the thirtieth day after issuance of this notice unless that day is a Saturday, Sunday, part-day holiday that affects the Commission, or legal holiday as described in section 18 CFR 385.2007, in which case the effective date is the first business day following that day. New applications involving this project site, to the extent provided for under 18 CFR part 4, may be filed on the next business day.

Magalie R. Salas,
Secretary.

[FR Doc. E4-1380 Filed 6-18-04; 8:45 am]

BILLING CODE 6717-01-P